DEPARTMENT OF DEFENSE

[OMB Control Number 0704-0386]

Information Collection Requirements; Defense Federal Acquisition Regulation Supplement; Small Business Programs

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through December 31, 2001. DoD proposes that OMB extend its approval for use through December 31, 2004.

DATES: DoD will consider all comments received by April 9, 2001.

ADDRESSES: E-mailed comments are preferred. Submit comments to: dfars@acq.osd.mil. Please cite OMB Control Number 0704-0386 in the subject line.

Respondents that cannot submit comments by e-mail may submit comments to: Defense Acquisition Regulations Council, Attn: Ms. Susan L. Schneider, OUSD (AT&L) DP (DAR), IMD 3C132, 3062 Defense Pentagon, Washington, DC 20301-3062; facsimile (703) 602-0350. Please cite OMB Control Number 0704-0386.

FOR FURTHER INFORMATION CONTACT: Ms. Susan L. Schneider, (703) 602-0326. The information collection requirements addressed in this notice are available electronically via the Internet at: http://www.acq.osd.mil/dp/dars/dfars.html. Paper copies are available from Ms. Susan Schneider, OUSD (AT&L) DP (DAR), IMD 3C132, 3062 Defense Pentagon, Washington, DC 20301-3062.

SUPPLEMENTARY INFORMATION: Title and OMB Number: Defense Federal Acquisition Regulation Supplement (DFARS) Part 219, Small Business Programs, and the clause at DFARS 252.219-7003; OMB Control Number 0704-0386.

Needs and Uses: This collection of information is necessary to implement the reporting requirements of the acquisition-related sections of the Small Business Act (15 U.S.C. 631, et seq.) and the applicable sections of the Armed Services Procurement Act (10 U.S.C. 2302, et seq.).

Affected Public: Business or other for-profit and not-for-profit institutions.

Annual Burden Hours: 41.

Number of Respondents: 41.

Responses Per Respondent: 1.

Annual Responses: 41.

Average Burden Per Response: 1 hour.

Frequency: On occasion.

Summary of Information Collection

DFARS 219.704 and the clause at DFARS 252.219-7003, Small, Small Disadvantaged and Women-Owned Small Business Subcontracting Plan (DoD Contracts), require prime contractors to notify the administrative contracting officer of any substitutions of firms that are not small, small disadvantaged, or women-owned small business for the firms listed in those subcontracting plans that specifically identify small, small disadvantaged, and women-owned small businesses. Notifications must be in writing and may be submitted in a contractor-specified format.

Michele P. Peterson,
Executive Editor, Defense Acquisition Regulations Council.

[FR Doc. 01-2989 Filed 2-5-01; 8:45 am]

BILLING CODE 5000-04-M